ENVIRONMENTAL PROTECTION AGENCY

[FRL-7021-7]

Announcement of Public Comment Period for Draft National Beach Guidance and Performance Criteria for Recreation Waters

AGENCY: Environmental Protection Agency.

ACTION: Notice of Availability; Request for Comments.

SUMMARY: The Environmental Protection Agency (EPA) has developed and is requesting public comments on the draft National Beach Guidance and Performance Criteria for Recreation Waters. This document provides proposed performance criteria for monitoring and assessment of coastal recreation waters adjacent to beaches, and prompt public notification of any exceedance or likelihood of exceedance of applicable water quality standards for pathogens and pathogen indicators for coastal recreation waters. This document also outlines the eligibility requirements for grants to implement monitoring and notification programs under section 406(b) of the Beaches Environmental Assessment and Coastal Health Act. This document is intended to be used by potential grant recipients to implement effective programs for monitoring and assessing coastal recreation waters. The document will also provide guidance for Federal agencies to implement beach monitoring and notification programs when States do not implement a program consistent with the performance criteria. The information submitted in response to this notice will be considered by EPA in the completion of the final document.

DATES: EPA will consider all comments received on or before 11:59 p.m. EDT October 1, 2001. Comments received after this time may be reviewed at EPA's discretion.

ADDRESSES: Interested persons may obtain a copy of the draft requirements from the Office of Science and Technology's website at http://www.epa.gov/ost/beaches/meetings/links.html or by contacting the Office of Water Resources Center at 202-260-7786 (e-mail: center.water-resource@epa.gov); mailing address is: Office of Water Resources Center, U.S. Environmental Protection Agency, RC-4100, 1200 Pennsylvania Avenue, NW, Washington, DC 20460. Please request the draft National Beach Guidance and Grant Performance Criteria for Recreation Waters (EPA-823-R-01-005) July 2001.

Please send electronically mailed comments to ow-docket@epa.gov. Please send mailed comments to: W-01-08 Comment Clerk, Water Docket (MC 4101); U.S. Environmental Protection Agency; 1200 Pennsylvania Avenue, NW; Washington, DC 20460. Overnight delivery or hand delivery should be delivered to EPA's Water Docket at 401 M Street, SW; Room EB57; Washington, DC, 20460. Please see SUPPLEMENTARY INFORMATION for other information about comments.

FOR FURTHER INFORMATION CONTACT: Charles Kovatch by phone at (202) 260-3754 or e-mail at Kovatch.Charles@epa.gov.

SUPPLEMENTARY INFORMATION:

What Does the BEACH Act Require?

The Beaches Environmental Assessment and Coastal Health Act (BEACH Act) was passed on October 10, 2000. It amended the Clean Water Act (CWA) in part by adding section 406, which authorizes EPA to award grants to States for the purpose of developing and implementing a program to monitor, for pathogens and pathogen indicators, coastal recreation water adjacent to beaches that are used by the public and to notify the public if water quality standards for pathogens and pathogen indicators are exceeded. Section 406(a) requires EPA to establish performance criteria for monitoring and assessment of coastal recreation waters and the prompt notification of any actual or potential exceedance of applicable water quality standards. EPA must publish the performance criteria after providing public notice and the opportunity for comment. EPA may award grants for implementation of a monitoring and notification program only if the program is consistent with the performance criteria. A complete copy of the BEACH Act can be found at http://www.epa.gov/OST/beaches/technical.html

How Did EPA Draft the Document?

The BEACH Act requires EPA to publish the performance criteria after providing public notice and the opportunity for comment. EPA developed this draft of the performance criteria, based in part on a series of consultations with representatives of state water pollution agencies, coastal protection agencies, public health agencies, and other interested parties.

What Is the Purpose of the Document?

The performance criteria and guidance document has three functions. First, it establishes performance criteria for (a) monitoring and assessment of coastal recreation waters adjacent to beaches (or similar points of access that are used by the public) for attainment of applicable water quality standards for pathogens and pathogen indicators; and (b) the prompt public notification of any exceedance or likelihood of exceedance of applicable water quality standards for pathogens and pathogen indicators for coastal recreation waters.

Second, this document summarizes the requirements for grants. It explains whether the requirements apply to development grants, implementation grants, or both. This document is intended to be used by potential grant recipients to implement effective programs for monitoring and assessing coastal recreation waters.

Third, this document is intended to promote consistency among States and localities by recommending standard approaches for recreational water quality programs. The document will assist local health departments, water quality managers, beach managers, and other local, State, and Tribal agencies to (a) improve microbial water quality monitoring programs for more consistent protection of coastal recreation waters, (b) assess, manage, and communicate health risks from waterborne microbial contamination, (c) notify the public of beach advisories and implement closings to help prevent public exposure to potentially harmful pathogens.

The document can also serve as a reference guide for how and when to conduct beach assessments because it includes protocols for water sample collection, sample handling, and laboratory analysis. It provides information about the use of predictive models to estimate indicator levels and includes procedures for public notification about beach advisories, closings, and openings.

What Does the Draft Document Address?

The draft document has five chapters. Chapter 1 discusses human pathogens and health concerns, describes how recreational water quality standards have been established, discusses relevant statutes and programs, and addresses other relevant issues. Chapter 2 briefly summarizes the performance criteria and the requirements that an applicant must meet to receive a program implementation grant. The chapter identifies relevant sections of the BEACH Act, briefly describes the corresponding performance criteria that EPA has developed, and provides additional grant-related information. Chapter 3 describes the risk-based evaluation process that EPA recommends for States to classify and prioritize their recreational beaches for monitoring and public notification. This step-by-step approach allows States to assess the relative human health risks and usage of their beaches and assign an appropriate management priority to each of them. Chapter 4 describes the performance criteria related to monitoring and assessment and provides detailed technical guidance. Chapter 5 describes the performance criteria and technical guidance related to the public notification and risk communication portions of a beach program.

What Are the Performance Criteria?

The performance criteria are the following:

1. Risk-based Beach Evaluation and Classification—Describe the factors used in beach evaluation and classification process and how beaches are ranked as a result of the process. For example history of contamination, pollution sources, duration of swimming season, and number swimmers are a few factors which could be used to evaluate beaches.

2. Sampling Design and Monitoring Implementation Plan—Develop a sampling design and implementation plan to address periods of recreation use of waters, nature and extent of use during those periods, proximity of waters to known point and non-point sources of pollution and effects of storm events on the waters.

3. Monitoring Report Submission and Delegations—Develop a mechanism to collect relevant information and submit timely reports to EPA and document any delegations of monitoring responsibilities to local governments. Reports will include sampling data and duration of water quality exceedance.

4. Methods and Assessment Procedures—Develop detailed methods and assessment procedures to detect levels of pathogens and pathogen indicators that are harmful to human health. The assessment procedures shall identify short-term increases in pathogens and pathogen indicators.

5. Public Notification and Risk Communication Plan—Develop an overall public notification and risk communication plan to describe notification efforts and measures to inform the public of potential risks associated with water contact in polluted waters.

6. Measures to Notify EPA and Local Government—Identify measures for prompt communication of the occurrence, nature, location, pollutants, and extent of or likelihood of exceeding applicable water quality standards for pathogens and pathogen indicators.

7. Measures to Notify the Public—Address the posting of signs or functional equivalent at beaches or similar points of access to give notice to the public which coastal recreation waters are not meeting or are not expected to meet applicable water quality standards for pathogens and pathogen indicators and on the risks of swimming in those waters.

8. Notification Report Submission and Delegations—Develop a mechanism to collect relevant information and submit timely reports to EPA and document any delegations of public notification responsibilities to local governments. Reports will include actions to take when water quality standards are exceeded.

9. Public Review of Program—Identify measures to provide an opportunity for the public to review the program through a process that provides for public notice and an opportunity for comment.

What Is the Purpose of This Notice?

EPA solicits comments on all aspects of the draft performance criteria and guidance. In particular, EPA requests comments and information on whether:

(1) EPA should define the scope of the program to provide a range of requirements and flexibility that would allow BEACH Act funding to support monitoring and notification at a greater number of beaches, or to establish very strict standards which would limit BEACH Act funding to a small number of priority beaches. The current draft would allow a greater number of beaches to be funded;

(2) A State should use it's current water quality standards for pathogens and pathogen indicators as the basis for deciding to issue an advisory or close a beach, or should use EPA's new ambient water quality criteria as the threshold prior to their adoption into a State's water quality standards;

(3) The risk-based evaluation and beach classification approach provides sufficient guidance and flexibility for a State to administer a BEACH Act monitoring and notification program;

(4) EPA should provide more specificity on the definition of a beach;

(5) EPA should provide more specificity on the required elements of a monitoring plan, and in particular the sampling location, frequency, and depth;

(6) Only EPA's analytical promulgated methods should be used (once promulgated) to monitor pathogens at beaches, or should other scientifically valid methods be allowed. EPA has promulgated analytical methods for fecal and total coliform bacteria, and is considering to promulgate methods for enterococci and E. coli;

(7) Predictive methods (e.g., water quality or empirical models) can be used to issue or remove advisories or closures;

(8) EPA should provide more specificity on the required elements of a notification plan, and in particular posting signs or functional equivalents, measures to report water quality exceedances to EPA, State agencies, beach managers, and the public; and

(9) A State should require an advisory or closure for any exceedance of a water quality standard, or may it allow for immediate re-sampling to verify the initial sample.

Is There Other Related Information?

EPA will host five outreach sessions to explain the document and answer questions about it. These sessions are in Wilmington, DE on July 31, San Diego, CA on August 3, Jacksonville, FL on August 21, New Orleans, LA on August 23, Chicago, IL on August 23. These meetings were announced in the Federal Register on July 20, 2001 and on EPA's website at http://www.epa.gov/ost/beaches/meetings/.

How Can You Submit Comments?

You may submit comments by mail, e-mail, or delivered by hand to the addresses shown in the ADDRESSES section of this notice. EPA will not accept facsimiles (faxes). If you mail or hand deliver comments, please send an original and three copies of your comments and enclosures (including references). If you want receipt of your comments acknowledged, you must include a self-addressed, stamped envelope. You may also submit your comments by sending an e-mail to ow-docket@epa.gov or by disk. If you do, you must submit electronic comments as an ASCII file, or a WordPerfect 5.1, WordPerfect 6.1, or WordPerfect 8 file avoiding the use of special characters and any form on encryption, and identify these comments by the docket number W-01-08 on the subject line. You may file electronic comments on this notice at many Federal Depository Libraries. You should not send confidential business information by e-mail. The information received in response to this notice will be filed under docket number W-01-08, and include referenced documents as well as printed, paper versions of electronic comments. The record is available for inspection from 9 to 4 p.m., Monday through Friday, excluding legal holidays at the Water Docket, EB57, U.S. Environmental Protection Agency Headquarters, 401 M St., Washington, DC. For access to docket materials, please call (202) 260-3027 to schedule an appointment.

Dated: July 26, 2001.
Geoffrey H. Grubbs,
Director, Office of Science and Technology.

[FR Doc. 01-19150 Filed 7-30-01; 8:45 am]

BILLING CODE 6560-50-P